FEDERAL COMMUNICATIONS COMMISSION

[DA 05-699]

Telecommunications Services Between the United States and Cuba

AGENCY: Federal Communications Commission.

ACTION: Notice.

SUMMARY: This document is a summary of the International Bureau's decision to approve the application of Allied Communications International, Inc. to provide international voice and data service between the United States and Cuba. The International Bureau determined that the present and future public convenience and necessity require a grant of the application.

DATES: Effective March 17, 2005.

FOR FURTHER INFORMATION CONTACT: Peggy Reitzel, International Bureau, (202) 418-1460.

SUPPLEMENTARY INFORMATION: This is a summary of the International Bureau's Order, DA 05-699, adopted on March 16, 2005, and released on March 17, 2005. The full text of this document is available for inspection and copying during normal business hours in the Consumer and Government Affairs Bureau's Reference Information Center, (Room CY-A257) of the Federal Communications Commission, 445 12th Street, SW., Washington, DC 20554. The document is also available for download over the Internet at http://hraunfoss.fcc.gov/edocs_public/attachmatch/DA-05-699A1.pdf. The complete text of this document also may be purchased from the Commission's copy contractor, Best Copy and Printing, Inc. Portals II, 445 12th Street, SW., Room CY-B402, Washington, DC 20554, telephone (202) 488-5300.

Summary of Order

On March 16, 2005, the Commission approved the application of Allied Communications International, Inc. (“ACI”) to provide international voice and data service between the United States and Cuba. ACI filed an application seeking authority pursuant to section 214 to provide the service via indirect transit through Mexico.

The Commission has authorized ACI to provide service between the United States and Cuba in accordance with the provisions of the Cuban Democracy Act of 1992. This will allow ACI to route its voice and data traffic via a Qwest point of presence in Florida to site facilities of Comsat International. Comsat International will then route the traffic via network facilities made available by several submarine cable systems. In addition, the Commission granted ACI's request for permission to modify its routing arrangement between the United States and Mexico as new business and technical developments may warrant. ACI will be required to notify the Commission of any such routing changes. Under the guidelines established by the Department of State, ACI is to submit reports indicating the numbers of circuits activated by facility, on or before June 30, and December 31, of each year, and on the one-year anniversary of this notification in the Federal Register.

Federal Communications Commission.
James Ball,
Chief, Policy Division, International Bureau.

[FR Doc. 05-8813 Filed 5-3-05; 8:45 am]

BILLING CODE 6712-01-P